MILLENNIUM CHALLENGE CORPORATION

[MCC FR 25-02]

Notice of First Amendment To Compact With the Federal Democratic Republic of Nepal; Correction

AGENCY: Millennium Challenge Corporation.

ACTION: Notice; correction.

SUMMARY: The Millennium Challenge Corporation (MCC) published a notice in the Federal Register of January 2, 2025. The notice contained an incorrect table.

SUPPLEMENTARY INFORMATION:

Correction

In the Federal Register of January 2, 2025, in FR Doc. 2024-31066, on page 119, in Annex I, Exhibit A to Annex II, Multi-Year Financial Plan Summary, replace the table with the following complete table:

Annex I

Exhibit A to Annex II

Multi-Year Financial Plan Summary

BILLING CODE 9211-03-P

Dated: January 24, 2025.
Brian Finkelstein,
Acting Vice President, General Counsel, and Corporate Secretary.

[FR Doc. 2025-01877 Filed 1-28-25; 8:45 am]

BILLING CODE 9211-03-C